DEPARTMENT OF COMMERCE

International Trade Administration

Initiation of Antidumping and Countervailing Duty Administrative Reviews and Request for Revocation in Part

AGENCY: Import Administration, International Trade Administration, Department of Commerce.

ACTION: Notice of initiation of antidumping and countervailing duty administrative reviews and request for revocation in part.

SUMMARY: The Department of Commerce (the Department) has received requests to conduct administrative reviews of various antidumping and countervailing duty orders and findings with August anniversary dates. In accordance with the Department's regulations, we are initiating those administrative reviews. The Department also received a request to revoke one antidumping duty order in part.

EFFECTIVE DATE: September 22, 2004.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b) (2002), for administrative reviews of various antidumping and countervailing duty orders and findings with August anniversary dates. The Department also received a timely request to revoke in part the antidumping duty order on Certain Small Diameter Carbon and Alloy Seamless Standard, Line and Pressure Pipe (Under 4½ Inches) from Romania.

Initiation of Reviews

In accordance with sections 19 CFR 351.221(c)(1)(i), we are initiating administrative reviews of the following antidumping and countervailing duty orders and findings. We intend to issue the final results of these reviews not later than August 31, 2005.

| Period to be reviewed
Antidumping Duty Proceedings
Argentina: Oil Country Tubular Goods, A-357-810, Siderca, S.A.I.C | 8/1/03-7/31/04
Brazil:
Seamless Pipe, A-351-826, V & M do Brazil S.A | 8/1/03-7/31/04
Silicon Metal ¹, Companhia Ferroligas de Minas Gerais-Minasligas; Ligas de Aluminio S.A | 7/1/03-6/30/04
Canada:
Corrosion-Resistant Carbon Steel Flat Products, A-122-822, Impact Steel Canada, Ltd.; Dofasco Inc.; Stelco Inc | 8/1/03-7/31/04
Pure Magnesium, A-122-814, Magnola Metallurgy Inc.; Norsk Hydo Canada, Inc | 8/1/03-7/31/04
Italy: Granular Polytetrafluoroethylene (PTFE) Resin, A-475-703, Solvay Solexis, Inc | 8/1/03-7/31/04
Japan:
Corrosion-Resistant Carbon Steel Flat Products, A-588-824, Nippon Steel Corporation; Kawasaki Steel Corporation (and any alleged successor-in-interest including JFE Steel Corp.) | 8/1/03-7/31/04
Granular Polytetrafluoroethylene Resin, A-588-707, Asahi Glass Fluoropolymers, Ltd | 8/1/03-7/31/04
Oil Country Tubular Goods, A-588-835, JFE Steel Corporation; Nippon Steel Corporation; NKK Tubes; Sumitomo Metal Industries, Ltd | 8/1/03-7/31/04
Mexico:
Carbon and Alloy Seamless Standard, Line and Pressure Pipe (Over 4½ Inches), A-201-827, Tubos de Acero de Mexico, S.A | 8/1/03-7/31/04
Gray Portland Cement and Clinker, A-201-802, CEMEX, S.A. de C.V.; GCC Cementos, S.A. de C.V | 8/1/03-7/31/04
Oil Country Tubular Goods, A-201-817, Hylsa, S.A. de C.V.; Tubos de Acero de Mexico, S.A | 8/1/03-7/31/04
Republic of Korea:
Corrosion-Resistant Carbon Steel Flat Products, A-580-816, Dongbu Steel Co., Ltd.; Dongshin Special Steel Co., Ltd.; Hyundai HYSCO; Pohang Iron and Steel Co., Ltd./Pohang Coated Steel Co., Ltd./Pohang Steel Industries Co., Ltd.; SeAH Steel Corporation; Sunchon Works; Union Steel Manufacturing Co., Ltd | 8/1/03-7/31/04
Oil Country Tubular Goods, A-580-825, Husteel Co., Ltd.; SeAH Steel Corporation | 8/1/03-7/31/04
Romania
Certain Small Diameter Carbon and Alloy Seamless Standard, Line and Pressure Pipe, A-485-805, S.C. Silcotub S.A | 8/1/03-7/31/04
Cut-to-Length Carbon Steel Plate, A-485-803, Combinatul de Oteluri Speciali Tirgoviste; CSR SA Resita; Metanef, S.A.; Metalexportimport, S.A.; MINMET, S.A.; S.C. Ispat Sidex S.A | 8/1/03-7/31/04
Socialist Republic of Vietnam: Frozen Fish Fillets, A-552-801, An Giang Fisheries Import and Export Joint Stock Company; An Giang Agriculture and Foods Import-Export Company (AFIEX); Can Tho Agricultural and Animal Products Import-Export Company (CATACO); Mekong Fisheries Joint Stock Company (MEKONIMEX); Phan Quan Company, Ltd.; Phu Thanh Company, Co.; QVD Food Co., Ltd.; Vinh Hoan Company, Ltd | 1/31/03-7/31/04
The People's Republic of China:
Persulfates ², A-570-847, Shanghai AJ Import & Export Corporation ³ | 7/1/03-6/30/04
Petroleum Wax Candles ⁴, A-570-504, Shanghai R&R Improt/Export Co., Ltd., Shangyu City Garden Candle Factory | 8/1/03-7/31/04
Countervailing Duty Proceedings
Canada:
Alloy Magnesium, C-122-815, Magnola Metallurgy Inc.; Norsk Hydro Canada Inc | 1/1/03-12/31/03
Pure Magnesium, C-122-815, Magnola Metallurgy Inc.; Norsk Hydro Canada Inc | 1/1/03-12/31/03
Republic of Korea: Dynamic Random Access Memory Semiconductors, C-580-851, Hynix Semiconductor Inc. (formerly Hyundai Electronics Industries Co., Ltd.) | 4/7/03-12/31/03
¹ The above listed companies were inadvertently omitted from the initiation notice that published on August 30, 2004 (69 FR 52857).
² This case was inadvertently omitted from the initiation notice that published on August 30, 2004 (69 FR 52857).
³ If the above named company does not qualify for a separate rate, all other exporters of persulfates from the People's Republic of China who have not qualified for a separate rate are deemed to be covered by this review as part of the single PRC entity of which the named exporters are a part.
⁴ If one of the above named companies does not qualify for a separate rate, all other exporters of petroleum wax candles from the People's Republic of China who have not qualified for a separate rate are deemed to be covered by this review as part of the single PRC entity of which the named exporters are a part.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistant with FAG Italia v. United States, 291 F.3d 806 (Fed Cir. 202), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: September 17, 2004.
Holly A. Kuga,
Senior Office Director, Office 4 for Import Administration.

[FR Doc. E4-2315 Filed 9-21-04; 8:45 am]

BILLING CODE 3510-DS-P